DEPARTMENT OF LABOR

Mine Safety and Health Administration

Petitions for Modification

The following parties have filed petitions to modify the application of existing safety standards under section 101(c) of the Federal Mine Safety and Health Act of 1977.

1. Freeman United Coal Mining Company

[Docket No. M-2000-037-C]

Freeman United Coal Mining Company, 1999 Wabash Avenue, Suite 200B, Springfield, Illinois 62704-5364 has filed a petition to modify the application of 30 CFR 75.1909(b)(6) to its Crown II Mine (I.D. No. 11-02236) located in Macoupin County, Illinois. The petitioner requests a modification of the standard to permit a diesel-powered road grader to be operated without front wheel brakes. The petitioner proposes to operate its diesel grader at a maximum speed of 10 miles per hour, lower the grader blade (mold board) to increase stopping capability in emergencies, and provide training for the grader operators on how to recognize appropriate levels of speed for different road and slope conditions. The petitioner asserts that the proposed alternative method would provide at least the same measure of protection as the existing standard.

2. Neumeister Coal Company

[Docket No. M-2000-038-C]

Neumeister Coal Company, 28 Frank Lane, Ashland, Pennsylvania 17921 has filed a petition to modify the application of 30 CFR 49.2(b) (availability of mine rescue teams) to its #2 Slope Mine (I.D. No. 36-07166) located in Schuylkill County, Pennsylvania. The petitioner requests a modification of the standard to permit the reduction of two mine rescue teams with five members and one alternate each, to two mine rescue teams with three members and one alternate for either team. The petitioner asserts that application of the existing standard would result in a diminution of safety to the miners and members of the rescue team, and that the proposed alternative method would provide at least the same measure of protection as the existing standard.

3. Tito Coal

[Docket No. M-2000-039-C]

Tito Coal, 118 Fairview Lane, Williamstown, Pennsylvania 17098 has filed a petition to modify the application of 30 CFR 49.2(b) (availability of mine rescue teams) to its Whites Vein Slope (I.D. No. 36-06815) located in Schuylkill County, Pennsylvania. The petitioner requests a modification of the standard to permit the reduction of two mine rescue teams with five members and one alternate each, to two mine rescue teams with three members and one alternate for either team. The petitioner asserts that application of the existing standard would result in a diminution of safety to the miners and members of the rescue team, and that the proposed alternative method would provide at least the same measure of protection as the existing standard.

4. Canyon Fuel Company, L.L.C.

[Docket No. M-2000-040-C]

Canyon Fuel Company, L.L.C., HC 35 Box 380, Helper, Utah 84526 has filed a petition to modify the application of 30 CFR 75.350 (air courses and belt haulage entries) to its Skyline Mine No. 3 (I.D. No. 42-01566) located in Carbon County, Utah. The petitioner requests a modification of the standard to permit the belt entry to be used as the return entry during two-entry longwall panel development, and the operator the option to use the belt haulage entry as an intake entry for additional face ventilation during longwall panel retreat mining. The petitioner asserts that this modification will provide maximum protection for the miners during longwall panel development and retreat mining under adverse ground conditions, multiple seam mining conditions, and deep cover. Upon granting of this petition, the petitioner requests that the terms and conditions contained in the Decision and Order not apply in any panel during the period from completion of development mining of the two-entry longwall panel until the beginning of the longwall equipment set-up activities, and conditioned on the conveyor belt in the two-entry panel not being energized. The petitioner asserts that during this time, all other existing standards will apply. The petitioner proposes to install a low-level carbon monoxide or equivalent product of combustion detection system in all longwall panel belt entries used as an intake or return air course and in the primary intake entry. The petitioner asserts that the proposed alternative method would provide at least the same measure of protection as the existing standard and that application of the existing standard would result in a diminution of safety to the miners.

5. Canyon Fuel Company, L.L.C.

[Docket No. M-2000-041-C]

Canyon Fuel Company, L.L.C. has filed a petition to modify the application of 30 CFR 75.352 (return air courses) to its Skyline Mine No. 3 (I.D. No. 42-01566) located in Carbon County, Utah. The petitioner requests a modification of the standard to permit the belt entry to be used as the return entry during two-entry longwall panel development, and to allow the operator the option to use the belt haulage entry as an intake entry for additional face ventilation during longwall panel retreat mining. The petitioner asserts that this modification will provide maximum protection for the miners during longwall panel development and retreat mining under adverse ground conditions, multiple seam mining conditions, and deep cover. Upon granting of this petition, the petitioner requests that the terms and conditions contained in the Decision and Order not apply in any panel during the period from completion of development mining of the two-entry longwall panel until the beginning of the longwall equipment set-up activities, and conditioned on the conveyor belt in the two-entry panel not being energized. The petitioner asserts that during this time, all other existing standards will apply. The petitioner proposes to install a low-level carbon monoxide or equivalent product of combustion detection system in all longwall panel belt entries used as an intake or return air course and in the primary intake entry. The petitioner asserts that the proposed alternative method would provide at least the same measure of protection as the existing standard, and that application of the existing standard would result in a diminution of safety to the miners.

6. Marfork Coal Company, Inc.

[Docket No. M-2000-042-C]

Marfork Coal Company, Inc., P.O. Box 457, Whitesville, West Virginia 25209 has filed a petition to modify the application of 30 CFR 75.350 (air courses and belt haulage entries) to its Brushy Eagle Mine (I.D. No. 46-08315) located in Raleigh County, West Virginia. The petitioner requests a modification of the standard to permit the use of an automatic fire detection system based on carbon monoxide monitoring of the underground belt conveyor entries. The petitioner proposes to install a low-level carbon monoxide monitoring system as an early warning fire detection system in all belt entries used to course intake air to a working place. The petitioner asserts that the proposed alternative method would provide at least the same measure of protection as the existing standard.

7. Elk Run Coal Company, Inc.

[Docket No. M-2000-043-C]

Elk Run Coal Company, Inc., P. O. Box 497, Sylvester, West Virginia 25193 has filed a petition to modify the application of 30 CFR 75.1002 (location of trolley wires, trolley feeder wires, high-voltage cables and transformers) to its Castle Mine (I.D. No. 46-08055) located in Boone County, West Virginia. The petitioner proposes to use continuous mining machines with nominal voltage of the power circuits not to exceed 2,300 volts. The petitioner asserts that its alternative method would not result in a diminution of safety to the miners, and would provide at least the same measure of protection as the existing standard.

8. Appalachian Eagle, Inc.

[Docket No. M-2000-044-C]

Appalachian Eagle, Inc., P.O. Box 751, Bradley, West Virginia 25818-0772 has filed a petition to modify the application of 30 CFR 75.350 (air courses and belt haulage entries) to its Mine No. 1 (I.D. No. 46-05437) located in Kanawha County, West Virginia. The petitioner requests a modification of the standard to permit the use of a carbon monoxide monitoring system to monitor belt air used in the face. The petitioner proposes to use a carbon monoxide monitoring system as an early warning fire detection in all belt entries used to course intake air to a working place. The petitioner asserts that the proposed alternative method would provide at least the same measure of protection as the existing standard.

9. Roberts Bros. Coal Company, Inc.

[Docket No. M-2000-045-C]

Roberts Bros. Coal Company, Inc., 660 B. John Hardy Road, Madisonville, Kentucky 42431 has filed a petition to modify the application of 30 CFR 75.701 (grounding metallic frames, casings, and other enclosures of electric equipment) to its Cardinal #2 Mine (I.D. No. 15-17216) located in Hopkins County, Kentucky. The petitioner proposes to use a 200KW, 480-volt, diesel powered generator set with an approved diesel drive engine to move equipment in and out of the mine and to perform rehab work in areas outby section loading points. The petitioner asserts that the proposed alternative method would provide at least the same measure of protection as the existing standard.

Request for Comments

Persons interested in these petitions are encouraged to submit comments via e-mail to “comments@msha.gov,” or on a computer disk along with an original hard copy to the Office of Standards, Regulations, and Variances, Mine Safety and Health Administration, 4015 Wilson Boulevard, Room 627, Arlington, Virginia 22203. All comments must be postmarked or received in that office on or before June 19, 2000. Copies of these petitions are available for inspection at that address.

Dated: May 8, 2000.
Carol J. Jones,
Director, Office of Standards, Regulations, and Variances.

[FR Doc. 00-12530 Filed 5-17-00; 8:45 am]

BILLING CODE 4510-43-P